DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration is soliciting comments concerning the proposed extension collection of the following information collections: (1) Medical Travel Refund Request (CM-957); and (2) Employment Information Form (WH-3 and WH-3(Spanish)). Copies of the proposed information collection requests can be obtained by contacting the office listed below in the ADDRESSES section of this Notice.

DATES: Written comments must be submitted to the office listed in the ADDRESSES section below on or before April 27, 2001.

ADDRESSEES: Ms. Patricia A. Forkel, U.S. Department of Labor, 200 Constitution Ave., NW., Room S-3201, Washington, DC 20210, telephone (202) 693-0339 (this is not a toll-free number), fax (202) 693-1451.

SUPPLEMENTARY INFORMATION:

Medical Travel Refund Request (CM-957)

I. Background

The Office of Workers' Compensation Programs (OWCP) administers the Federal Black Lung Benefits Act (FBLBA). When a coal miner files an application for black lung benefits under the Act, the miner is scheduled for medical determination testing. The Black Lung Trust Fund is required to pay for this determination testing and associated travel costs. The CM-957 is used by the miner to record travel expenses incurred while traveling to and from the testing facility.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the extension of approval for this information collection in order to identify and reimburse miners for out-of-pocket medical travel expenses associated with black lung related medical testing.

Type of Review: Extension.

Agency: Employment Standards Administration.

Title: Medical Travel Refund Request.

OMB Number: 1215-0054.

Affected Public: Individuals or households; Businesses or other for-profit institutions; Not-for-profit institutions.

Total Respondents: 6,000.

Frequency: On occasion.

Total Responses: 6,000.

Average Time per Response: 10 minutes.

Estimated Total Burden Hours: 1,000.

Total Burden Cost (capital/startup): $0.

Total Burden Cost (operating/maintenance): $2,890.

Employment Information Form (WH-3 and WH-3(Spanish))

I. Background

Section 11(a) of the Fair Labor Standards Act, 29 USC 201 et. seq., provides that the Secretary of Labor may investigate and gather data regarding the wages, hours, and other conditions and practices of employment in any industry subject to the Act. Similar provisions are also contained in the Public Contracts Act, The Service Contracts Act, the Davis-Bacon Act, the Consumer Credit Protection Act, the Migrant and Seasonal Agricultural Workers' Protection Act, and the Family and Medical Leave Act, all of which are enforced by the Wage and Hour Division of the U.S. Department of Labor. The Form WH-3 is an optional form used by complainants and others to provide information about alleged violations of the labor standards provisions of the Acts cited above. The form is provided in both English and Spanish versions.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks the extension of approval of this information collection in order to carry out its responsibility to meet the statutory requirements to investigate alleged violations of the various labor standards laws enforced by the Wage and Hour Division.

Type of Review: Extension.

Agency: Employment Standards Administration.

Title: Employment Information Form.

OMB Number: 1215-0001.

Agency Number: WH-3 and WH-3 (Spanish).

Affected Public: Individuals or households; Farms, Businesses or other for-profit; Not-for-profit institutions; Federal government; State, local or Tribal government.

Total Respondents: 39,000.

Frequency: On occasion.

Total Responses: 39,000.

Average Time per Response: 20 minutes.

Estimated Total Burden Hours: 13,000.

Total Burden Cost (capital/startup): $0.

Total Burden Cost (operating/maintenance): $0.

Comments submitted in response to this notice will be summarized and/or included in the request for Office of Management and Budget approval of the information collection request; they will also become a matter of public record.

Dated: February 16, 2001.
Margaret J. Sherrill,
Chief, Branch of Management Review and Internal Control, Division of Financial Management, Office of Management, Administration and Planning, Employment Standards Administration.

[FR Doc. 01-4644 Filed 2-23-01; 8:45 am]

BILLING CODE 4510-27-P